CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning its proposed reinstatement of its State Administrative Standards (hereinafter ‘Standards’) form. This form is used by the Corporation as one of its oversight and monitoring tools of the state commissions that are Corporation grantees.

Copies of the information collection requests can be obtained by contacting the office listed in the address section of this notice.

DATES: Written comments must be submitted to the individual and office listed in the ADDRESSES section by July 25, 2005.

ADDRESSES: You may submit comments, identified by the title of the information collection activity, by any of the following methods:

(1) By mail sent to: Corporation for National and Community Service, AmeriCorps*State/National; Attention Gayle Hilleke, Project Manager, State Administrative Standards, Room 9510; 1201 New York Avenue, NW., Washington, DC, 20525.

(2) By hand delivery or by courier to the Corporation's mailroom at Room 6010 at the mail address given in paragraph (1) above, between 9 a.m. and 4 p.m. Monday through Friday, except Federal holidays.

(3) By fax to: (202) 565-2789, Attention Gayle Hilleke, Project Manager, State Administrative Standards.

(4) Electronically through the Corporation's e-mail address system: ghilleke@cns.gov.

FOR FURTHER INFORMATION CONTACT: Gayle Hilleke, (202) 606-5000, ext. 431, or by e-mail at ghilleke@cns.gov.

SUPPLEMENTARY INFORMATION: The Corporation is particularly interested in comments that:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are expected to respond, including the use of appropriate automated, electronic, mechanical, or other technological collection techniques or other forms of information technology (e.g., permitting electronic submissions of responses).

Background

The State Administrative Standards form was developed in 1999 in consultation with state commissions. State commissions collectively asked for clearly stated standards by which the Corporation would assess the adequacy of their administrative systems. Indicators of competency were developed for each element of the Standards. All fifty-two commissions were reviewed once using the Standards form. The Corporation took the next year and a half to assess the process, design a new risk-based approach (as suggested by our internal audit), and streamline the form by eliminating redundancies, combining similar items, and clarifying the language.

The information that is collected will help the Corporation determine the extent to which each state commission has in place the administrative systems for effective operation. The form will be used for both self- and external assessments of the state commissions. Assessment results will be used by grantees for continuous improvement and by the Corporation for guiding training and technical assistance resources, determining appropriate levels of grantee oversight, and determining eligibility for access to competitive funding.

Current Action

The Corporation seeks to reinstate and revise the previous form. When revised, the form will be reduced from eleven (11) standards containing a total of one hundred and nine (109) elements to eight (8) standards with a total of sixty (60) elements. The form will now be completed in eGrants. The form will otherwise be used in the same manner as the previous form.

Type of Review: Renewal.

Agency: Corporation for National and Community Service.

Title: State Administrative Standards Forms.

OMB Numbers: 3045-0064: State Administrative Standards Form.

Agency Number: SF 424-NSSC.

Affected Public: State Commissions of the Corporation for National and Community Service.

Total Respondents: 53.

Frequency: An average of ten (10) commissions annually.

Average Time Per Response: 300 hours per state commission.

Estimated Total Burden Hours: 3000 hours per 10 state commissions.

Total Burden Cost (capital/startup): None.

Total Burden Cost (operating/maintenance): None.

Comments submitted in response to this notice will be summarized and/or included in the request for Office of Management and Budget approval of the information collection request; they will also become a matter of public record.

Dated: May 16, 2005.
Rosie K. Mauk,
Director, AmeriCorps.

[FR Doc. 05-10359 Filed 5-23-05; 8:45 am]

BILLING CODE 6050-$$-P